DEPARTMENT OF TRANSPORTATION

National Highway Traffic Safety Administration

[Docket No. NHTSA-2021-0090; Notice 1]

Polaris Industries Inc., Receipt of Petition for Decision of Inconsequential Noncompliance

AGENCY: National Highway Traffic Safety Administration (NHTSA), Department of Transportation (DOT).

ACTION: Receipt of petition.

SUMMARY: Polaris Industries Inc. (Polaris) and Indian Motorcycle Company have determined that windscreens installed on certain model year (MY) 2015-2021 Slingshot three-wheeled motorcycles and MY 2019-2022 Indian motorcycles do not fully comply with Federal Motor Vehicle Safety Standard (FMVSS) No. 205, Glazing Materials and ANSI/SAE Z26.1-1996. On September 29, 2021, Polaris and Indian Motorcycle Company each filed a noncompliance report. Polaris subsequently amended its noncompliance report on October 27, 2021, and on August 23, 2022. On October 29, 2021, Polaris (the parent company of Indian Motorcycle) petitioned NHTSA, on behalf of both companies, regarding the two noncompliance reports for a decision that the subject noncompliance is inconsequential as it relates to motor vehicle safety. This document announces receipt of Polaris' two petitions.

DATES: Send comments on or before September 25, 2024.

ADDRESSES: Interested persons are invited to submit written data, views, and arguments on this petition. Comments must refer to the docket and notice number cited in the title of this notice and may be submitted by any of the following methods:

• Mail: Send comments by mail addressed to the U.S. Department of Transportation, Docket Operations, M-30, West Building Ground Floor, Room W12-140, 1200 New Jersey Avenue SE, Washington, DC 20590.

• Hand Delivery: Deliver comments by hand to the U.S. Department of Transportation, Docket Operations, M-30, West Building Ground Floor, Room W12-140, 1200 New Jersey Avenue SE, Washington, DC 20590. The Docket Section is open on weekdays from 10 a.m. to 5 p.m. except for Federal Holidays.

• Electronically: Submit comments electronically by logging onto the Federal Docket Management System (FDMS) website at https://www.regulations.gov/. Follow the online instructions for submitting comments.

• Comments may also be faxed to (202) 493-2251.

Comments must be written in the English language, and be no greater than 15 pages in length, although there is no limit to the length of necessary attachments to the comments. If comments are submitted in hard copy form, please ensure that two copies are provided. If you wish to receive confirmation that comments you have submitted by mail were received, please enclose a stamped, self-addressed postcard with the comments. Note that all comments received will be posted without change to https://www.regulations.gov, including any personal information provided.

All comments and supporting materials received before the close of business on the closing date indicated above will be filed in the docket and will be considered. All comments and supporting materials received after the closing date will also be filed and will be considered to the fullest extent possible.

When the petition is granted or denied, notice of the decision will also be published in the Federal Register pursuant to the authority indicated at the end of this notice.

All comments, background documentation, and supporting materials submitted to the docket may be viewed by anyone at the address and times given above. The documents may also be viewed on the internet at https://www.regulations.gov by following the online instructions for accessing the dockets. The docket ID number for this petition is shown in the heading of this notice.

DOT's complete Privacy Act Statement is available for review in a Federal Register notice published on April 11, 2000 (65 FR 19477-78).

FOR FURTHER INFORMATION CONTACT: Jack Chern, General Engineer, NHTSA, Office of Vehicle Safety Compliance, (202) 366-0661.

SUPPLEMENTARY INFORMATION:

I. Overview: Polaris and Indian Motorcycle Company determined that certain MY 2015-2021 Slingshot three-wheeled motorcycles and MY 2019-2022 Indian Motorcycles do not fully comply with paragraph S6 of FMVSS No. 205, Glazing Materials (49 CFR 571.205).

Polaris and Indian Motorcycle Company filed original noncompliance reports dated September 29, 2021, and Polaris amended its report on October 27, 2021, and August 23, 2022, pursuant to 49 CFR part 573, Defect and Noncompliance Responsibility and Reports. Polaris petitioned NHTSA on October 29, 2021, for an exemption from the notification and remedy requirements of 49 U.S.C. Chapter 301 on the basis that this noncompliance is inconsequential as it relates to motor vehicle safety, pursuant to 49 U.S.C. 30118(d) and 30120(h) and 49 CFR part 556, Exemption for Inconsequential Defect or Noncompliance.

This notice of receipt of Polaris' petitions is published under 49 U.S.C. 30118 and 30120 and does not represent any agency decision or another exercise of judgment concerning the merits of the petition.

II. Vehicles Involved: Approximately 5,377 windscreens of the following Polaris Slingshot three-wheeled motorcycles manufactured between December 15, 2014, and September 25, 2021, and approximately 9,057 after-market/accessory windscreens are potentially involved:

• MY 2015 Slingshot SL

• MY 2019 SLG SLR Icon

• MY 2020 Slingshot GT

• MY 2020 Slingshot R

• MY 2020 Slingshot SL

• MY 2021 Slingshot

Approximately 14,189 windscreens of the following Indian Motorcycles manufactured between April 2, 2018, and September 28, 2021, and approximately 5,223 after-market/accessory windscreens are potentially involved:

• MY 2019-2022 Indian

• MY 2019 Chieftain Limited

• MY 2019 Chieftain Ltd Icon

• MY 2019 Chieftain

• MY 2019 Chieftain Dark Horse

• MY 2019 Chieftain Classic Icon

• MY 2019 Chieftain Classic

• MY 2020 Chieftain Elite

• MY 2020 Jack Daniel's Springfield

• MY 2020 Chieftain Limited

• MY 2020 Challenger Dark Horse

• MY 2019-2022 Chieftain

• MY 2020 Springfield

• MY 2020-2021 Roadmaster

• MY 2020-2022 Challenger

III. Noncompliance: Polaris explains that the windscreens installed on the subject motorcycles do not fully comply with certain marking requirements specified by FMVSS No. 205. Specifically, the Polaris Slingshot windscreens were mismarked as follows:

• Windscreens having part number 5452393 were missing the “A” in the “AS6” marking.

• Windscreens having part numbers 5452394, 5452871, 5452870, 5452881 omitted all of the markings required by FMVSS No. 205.

• Windscreens having part number 5453490 were incorrectly marked AS6 when the correct marking is AS7.

• Windscreens having part number 5455970 were incorrectly marked AS6 when the correct marking is AS7; in addition, the glazing was incorrectly marked with a manufacturer model number “TUFFAK FC” when the correct marking is “TUFFAK AR2 135.”

The Indian Motorcycle windscreens were mismarked as follows:

• Windscreens having part numbers 2883069, 5452252, 5451353-02, 5455335, 5455336, and 5455337 were incorrectly marked AS7 when the correct marking is AS6.

IV. Rule Requirements: Section 6 of FMVSS No. 205 includes the requirements relevant to this petition. In addition, each prime glazing material manufacturer must mark the glazing materials it manufactures in accordance with Section 7 of ANSI Z26.1-1996, which requires, among other things, windscreens to meet light transmissibility requirements and have AS markings with the American National Standard.

V. Summary of Polaris' Petitions: The following views and arguments presented in this section, “V. Summary of Polaris' Petitions,” are the views and arguments provided by Polaris. They have not been evaluated by the Agency and do not reflect the views of the Agency. Polaris describes the subject noncompliance and contends that the noncompliance is inconsequential as it relates to motor vehicle safety.

Polaris says that although the subject windscreens do not fully comply with the marking requirements of FMVSS No. 205, they meet the performance requirements specified in FMVSS No. 205 and ANSI Z26.1-1996, and there is no safety performance implication associated with this technical noncompliance.

Polaris explains that the primary causes of the noncompliance were errors made by Polaris' windscreen suppliers combined with insufficient oversight by Polaris. Polaris' supplier quality team is actively working with its windscreen suppliers to incorporate corrective actions in their control plan going forward to prevent reoccurrence. In addition, new processes are being implemented at Polaris to more clearly define the windscreen markings during the design phase and the pre-production validation phase.

Polaris says that the subject windscreens fulfill the purpose of the requirement as stated in FMVSS No. 205 because the incorrect markings do not prevent the windscreen from meeting “all of the applicable performance requirements set forth in FMVSS No. 205.” Furthermore, Polaris says that the markings affected by the subject noncompliance “are not referred to by dealers or consumers and have no impact on where each windscreen can be installed.”

With one exception noted below, Polaris states that the subject windscreens “are classified as wind deflectors and are at heights not requisite for driver visibility. These windscreens meet the applicable test requirements for AS7 windscreens according to ANSI Z26.1-1996. Only part number 5452871 is at a height requisite for driver visibility, and it is a clear windscreen that meets all AS6 test requirements.”

Polaris states that it “is not aware of any crashes, injuries, or consumer complaints associated with the incorrect markings.”

Polaris cited the following decisions for inconsequentiality that NHTSA has previously granted that Polaris believes are similar to the subject noncompliance:

• FCA US, LLC and AGC Glass Company North America, 85 FR 39673, (July 1, 2020);

• Supreme Corporation, 81 FR 72850, (October 21, 2016);

• Mitsubishi Motors North America, Inc., 80 FR 72482 (November 19, 2015);

• Ford Motor Company, 80 FR. 11259 (March 2, 2015);

• Custom Glass Solutions Upper Sandusky Corp., 80 FR 3737 (January 23, 2015);

• General Motors, LLC, 79 FR 23402 (April 28, 2014);

• Fiji Heavy Industries U.S.A. Inc., 78 FR 59088 (September 25, 2013);

• Ford Motor Company, 78 FR 32531 (May 30, 2013);

• Pilkington North America, Inc., 78 FR 22942 (April 17, 2013);

• Pilkington Glass of Canada LTD., 71 FR 39141 (July 11, 2006);

• General Motors, 70 FR 49973 (August 25, 2005);

• Freightliner LLC, 68 FR 65991 (November 24, 2003);

• Toyota Motors North America Inc., 68 FR 10307 (March 4, 2003);

• Guardian Ind. Corp., 67 FR 65185 (October 23, 2002);

• Ford Motor Company, 64 FR 70115 (December 15, 1999);

• Western Star Trucks Inc., 63 FR 66232 (December 1, 1998).

Polaris concludes by stating its belief that the subject noncompliance is inconsequential as it relates to motor vehicle safety and its petition to be exempted from providing notification of the noncompliance, as required by 49 U.S.C. 30118, and a remedy for the noncompliance, as required by 49 U.S.C. 30120, should be granted.

NHTSA notes that the statutory provisions (49 U.S.C. 30118(d) and 30120(h)) that permit manufacturers to file petitions for a determination of inconsequentiality allow NHTSA to exempt manufacturers only from the duties found in sections 30118 and 30120, respectively, to notify owners, purchasers, and dealers of a defect or noncompliance and to remedy the defect or noncompliance. Therefore, any decision on this petition only applies to the subject vehicles that Polaris no longer controlled at the time it determined that the noncompliance existed. However, any decision on this petition does not relieve vehicle distributors and dealers of the prohibitions on the sale, offer for sale, or introduction or delivery for introduction into interstate commerce of the noncompliant vehicles under their control after Polaris notified them that the subject noncompliance existed.

(Authority: 49 U.S.C. 30118, 30120: delegations of authority at 49 CFR 1.95 and 501.8)

Otto G. Matheke III,
Director, Office of Vehicle Safety Compliance.

[FR Doc. 2024-19018 Filed 8-23-24; 8:45 am]

BILLING CODE 4910-59-P